TWENTY-FIRST CENTURY WORKFORCE COMMISSION

Notice of Business Meeting

AGENCY: Twenty-First Century Workforce Commission.

ACTION: Notice of business meeting.

SUMMARY: This notice is to announce a business meeting on Thursday, March 30, 2000. Members of the public are invited to attend the meeting. The agenda is set forth below.

The purpose of the meeting is for Commissioners to formulate next steps in carrying out its statutory requirements. The Commissioners and Commission staff will discuss trends and findings arising from its public information gathering hearings, and from site visits conducted by Commission staff. In addition, Commissioners will discuss best practices in Information Technology Workforce Development, and how federal programs and policies affect these practices. Finally, the Commissioners will discuss the format of the Commission's report, and how the recommendations of the report will be transmitted to Congress and the Administration.

DATES: The business meeting will be held on Thursday, March 30, 2000, from 9:00 am to approximately 2:00 p.m. Registration is from 9:00 am to 10:00 am. The dates, locations and times for subsequent meetings will be announced in advance in the Federal Register.

ADDRESSES: George Mason University, Fairfax Campus is located at 4400 University Drive, Fairfax, VA 22030. Main Phone: (703) 993-1000. The meeting will be held at the Johnson Center in Meeting Room A. Web-based directions can be found at: http://coyote.gmu.edu/map/. All interested parties are invited to attend this business meeting. Seating may be limited and will be available on a first-come, first-serve basis.

FOR FURTHER INFORMATION CONTACT: Mr. Hans Meeder, Executive Director, Twenty-First Century Workforce Commission, 1201 New York Avenue, NW, Suite 700, Washington, DC 20005. (Telephone (202-289-2939. TTY (202) 289-2977) These are not toll-free numbers. Email: Workforce21@nab.com.

SUPPLEMENTARY INFORMATION: Establishment of the Twenty-First Century Workforce Commission was mandated by Subtitle C of Title III of the Workforce Investment Act, Sec. 331 of Pub. L. 105-220, 112 Stat. 1087-1091, (29 U.S.C. 2701 note), signed into law on August 7, 1998. The 15 voting member Twenty-First Century Workforce Commission is charged with studying all aspects of the information technology workforce in the United States. Notice is hereby given of a business meeting of the Twenty-First Century Workforce Commission.

The Workforce Investment Act (Pub. L. No. 105-220), signed into law on August 7, 1998, established the Twenty-First Century Workforce Commission. The Commission is charged with carrying out a study of the information technology workforce in the U.S., including the examination of the following issues:

1. What skills are currently required to enter the information technology workforce? What technical skills will be demanded in the near future?

2. How can the United States expand its number of skilled information technology workers?

3. How do information technology education programs in the United States compare with other countries in effectively training information technology workers? [The Commission study should place particular emphasis upon contrasting secondary, non-and-post-baccalaureate degree education programs available within the U.S. and foreign countries.]

The Workforce Investment Act directs the Commission to issue recommendations to the President and Congress within six months. The Commission first met on November 16, 1999, and will issue its recommendations by May 16, 2000.

Agenda

At the Fairfax, Virginia meeting, the Commission working group conducting the meeting will discuss trends and findings arising from its public information gathering hearings, and from site visits conducted by Commission staff. In addition, Commissioners will discuss best practices in Information Technology Workforce Development, and how federal programs and policies affect these practices. Finally, the Commissioners will discuss the format of the Commission's report, and how the recommendations of the report will be transmitted to Congress and the Administration.

Commission Membership

The Workforce Investment Act mandates that 15 voting members be appointed by the President, Majority Leader of the Senate, and Speaker of the House (5 members each), including 3 educators, 3 state and local government representatives, 8 business representatives and 1 labor representative. The Act also mandates that the President appoint 2 ex-officio members, one each from the Departments of Labor and Education.

The Commissioners are: Chairman Lawrence Perlman, Ceridian Corporation, Minneapolis, MN; Vice Chair, Katherine K. Clark, Landmark Systems Corporation, Reston, VA; Susan Auld, Capitol Strategies, Ltd., Montpelier, VT; Morton Bahr, Communication Workers of America, Washington, DC; Patricia Gallup, PC Communications, Inc., Merrimack, NH; Dr. Bobby Garvin, Mississippi Delta Community College, Moorhead, MS; Susan M. Green (ex officio), U.S. Department of Labor, Washington, DC; Randel Johnson, U.S. Chamber of Commerce, Washington, DC; Roger Knutsen, National Council for Higher Education, Auburn, WA; Patricia McNeil (ex officio), U.S. Department of Education, Washington, DC; The Honorable Mark Morial, Mayor, City of New Orleans, LA; Thomas Murrin, Ph.D., Duquesne University, Pittsburgh, PA; Leo Reynolds, Electronic Systems, Inc., Sioux Falls, SD; The Honorable Frank Riggs, National Homebuilders Institute, Washington, DC; The Honorable Frank Roberts, Mayor, City of Lancaster, California; Kenneth Saxe, Stambaugh-Ness, York, PA; David L. Steward, World Wide Technology, Inc., St. Louis, MO; Hans K. Meeder, Executive Director, Washington, DC.

Public Participation

Members of the public are invited to attend this meeting. Members of the public may also submit written statements for distribution to the Commissioners and inclusion in the public record without presenting oral statements. Such written statements should be sent to Mr. Hans Meeder, as shown above, or may be submitted at the meeting site.

The Commission has established a web site, www.workforce21.org. Any written comments regarding documents published on this web site should be directed to Mr. Hans Meeder, as shown above.

Special Accomodations

Reasonable accommodations will be available. Persons needing any special assistance such as sign language interpretation, or other special accommodation, are invited to contact Mr. Hans Meeder, as shown above. Requests for accommodations must be made four days in advance of the meeting.

Due to difficulties of scheduling the members we are unable to provide a full 15-day advance notice of this meeting.

Signed at Washington, DC this 21th day of March 2000.
Hans K. Meeder,
Executive Director, Twenty-First Century Workforce Commission.

[FR Doc. 00-7471 Filed 3-24-00; 8:45 am]

BILLING CODE 4510-23-P